DEPARTMENT OF DEFENSE

Department of the Navy

Privacy Act of 1974; System of Records

AGENCY: Department of the Navy.

ACTION: Notice to Add Systems of Records; NM01500-10 Navy Training Management and Planning System (NTMPS).

SUMMARY: The Department of the Navy proposes to add a system of records to its inventory of record systems subject to the Privacy Act of 1974 (5 U.S.C. 552a), as amended.

DATES: The proposed action will be effective on September 23, 2005 unless comments are received that would result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy's notices for systems of records subject to the Privacy Act of 1974 (5 U.S.C. 552a), as amended, have been published in the Federal Register and are available: from the address above.

The proposed systems reports, as required by 5 U.S.C. 552a(r) of the Privacy Act, were submitted on August 16, 2005, to the House Committee on Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: August 17, 2005.
Jeannette Owings-Ballard,
OSD Federal Register Liaison Officer, Department of Defense.

NM01500-10

System name:

Navy Training Management and Planning System (NTMPS).

System location:

Naval Undersea Warfare Center Division (NUWC) Newport, Bldg 1259, Combat Control System Lab (CCSL), 1176 Howell St, Newport, RI 02841-5047.

Categories of individuals covered by the system:

U.S. Navy Sailors; active and reserve duty Marines, and civilian personnel.

Categories of records in the system:

Name, Social Security Number (SSN), date of birth, professional qualifications and skills, training courses completed, certifications received, level of education, military awards received, duty assignments, language skills, and security clearance information.

Authority for maintenance of the system:

10 U.S.C. 5013, Secretary of the Navy; 10 U.S.C. 5041, Headquarters, Marine Corps; and E.O. 9397 (SSN).

Purpose(s):

The purpose of this system is to maintain a listing of training, education, and qualifications of Department of the Navy personnel for use by Manpower, Personnel and Training (MPT) managers. This system will also be used to provide projections of training resources.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ that appear at the beginning of the Navy's compilation of systems of records notices apply to this system.

Policies and practices for storing, retrieving, accessing, retaining, and disposing of records in the system:

Storage:

Paper and automated records.

Retrievability:

Name and Social Security Number.

Safeguards:

The NTMPS servers are located in a secure area at NUWC Newport. Access to the data marts will be controlled through user IDs and passwords. Passwords will be changed regularly. All data transferred including username/passwords will be encrypted. The interface server will be protected from attempts to penetrate the firewall through the existing NUWC controls. NTMPS users will be limited to viewing data approved by their command supervisor.

Retention and disposal:

Records are destroyed once individual discontinues service with the Department of the Navy.

System manager(s) and address:

Commander, Naval Education and Training Command (NETC), Code N631, 250 Dallas St., Pensacola, FL 32508-5220.

Naval Undersea Warfare Center (NUWC) Division Newport, Code 2232, Bldg 1171-2, 1176 Howell St., Newport, RI 02841-5047.

Notification procedure:

Individuals seeking to determine whether information about themselves is contained in this system should address written inquiries to the Commander, Naval Education and Training Command, Code N631, 250 Dallas St., Pensacola, FL 32508-5220.

Written request should contain full name, current rate/rank, Social Security Number, status, branch of service, and must be signed.

Record access procedures:

Individuals seeking access to additional information about themselves contained in this system should address written inquiries to the Commander, Naval Education and Training Command, Code N631, 250 Dallas St., Pensacola, FL 32508-5220.

Written request should contain full name, current rate/rank, Social Security Number, status, branch of service, and must be signed.

Contesting record procedures:

The Navy's rules for accessing records, and for contesting contents and appealing initial agency determinations are published in Secretary of the Navy Instruction 5211.5; 32 CFR part 701; or may be obtained from the system manager.

Record source categories:

Individual and from various other Privacy Act systems of records, such as N01080-1, Enlisted Master File; N01080-2, Officer Master File; N01500-3, and Student/Smart/VLS Records.

Exemptions claimed for the system:

None.

[FR Doc. 05-16666 Filed 8-23-05; 8:45 am]

BILLING CODE 5001-06-P